DEPARTMENT OF TRANSPORTATION

Federal Aviation Administration

14 CFR Part 97

[Docket No. 30379; Amdt. No. 3068]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective July 28, 2003. The compliance date for each SIAP is specified in the amendatory provisions.

The incorporation by reference of certain publications listed in the regulations is approved by the Director of the Federal Register as of July 28, 2003.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

4. The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 18, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

Effective Upon Publication

FDC date | State | City | Airport | FDC No. | Subject
07/03/03 | TX | EASTLAND | EASTLAND MUNI | 3/5347 | RNAV (GPS) RWY 35, ORIG
07/03/03 | SD | PIERRE | PIERRE REGIONAL | 3/5274 | RNAV (GPS) RWY 25, ORIG
07/03/03 | SD | PIERRE | PIERRE REGIONAL | 3/5275 | VOR OR TACAN RWY 25, ORIG
07/09/03 | AZ | CASA GRANDE | CASA GRANDE MUNI | 3/5370 | VOR RWY 5, AMDT 4B
06/25/03 | UT | WENDOVER | WENDOVER | 3/4988 | VOR/DME OR TACAN RWY 26, ORIG-A
07/09/03 | FL | VERO BEACH | VERO BEACH | 3/5619 | RNAV (GPS) RWY 11R, ORIG
07/09/03 | FL | VERO BEACH | VERO BEACH | 3/5618 | RNAV (GPS) RWY 29L, ORIG
07/10/03 | GA | SAVANNAH | SAVANNAH/HILTON HEAD INTL | 3/5701 | ILS RWY 9, AMDT 26
07/10/03 | GA | SAVANNAH | SAVANNAH/HILTON HEAD INTL | 3/5700 | NDB RWY 9, AMDT 22
07/09/03 | PR | SAN JUAN | SAN JUAN/LUIS MUNOZ MARIN INTL | 3/5635 | RNAV (GPS) RWY 8, ORIG-A
07/09/03 | PR | SAN JUAN | SAN JUAN/LUIS MUNOZ MARIN INTL | 3/5637 | RNAV (GPS) RWY 26, ORIG-A
07/09/03 | PR | SAN JUAN | SAN JUAN/LUIS MUNOZ MARIN INTL | 3/5636 | RNAV (GPS) RWY 10, ORIG-B
07/09/03 | VI | CHRISTIANSTED, ST. CROIX | CHRISTIANSTED, ST. CROIX/HENRY E. ROHLSEN | 3/5634 | RNAV (GPS) RWY 10, ORIG-B
07/11/03 | CA | SACRAMENTO | SACRAMENTO INTL | 3/5599 | RNAV (GPS) RWY 16L, ORIG
07/11/03 | CA | SACRAMENTO | SACRAMENTO INTL | 3/5600 | RNAV (GPS) RWY 16R, ORIG
07/11/03 | CA | SACRAMENTO | SACRAMENTO INTL | 3/5601 | RNAV (GPS) RWY 34L, ORIG
07/11/03 | CA | SACRAMENTO | SACRAMENTO INTL | 3/5602 | RNAV (GPS) RWY 34R, ORIG
07/11/03 | HI | HILO | HILO INTL | 3/5611 | RNAV (GPS) RWY 26, ORIG-A
07/11/03 | AK | ANCHORAGE | TED STEVENS ANCHORAGE INTL | 3/5613 | RNAV (GPS) RWY 14, ORIG
07/11/03 | AK | KENAI | KENAI | 3/5614 | RNAV (GPS) RWY 19R, ORIG
07/15/03 | IN | AUBURN | DE KALB | 3/5903 | VOR RWY 9, AMDT 7
07/15/03 | GU | AGANA | GUAM INTL | 3/5603 | RNAV (GPS) Z RWY, ORIG-A
3/17/03 | VT | BURLINGTON | BURLINGTON INTL | 3/2181 | NDB RWY 15, AMDT 19E
07/10/03 | MA | PROVINCETOWN | PROVINCETOWN MUNI | * 3/5662 | RNAV (GPS) RWY 17, ORIG-A
07/10/03 | TX | HOUSTON | ELLINGTON FIELD | 3/5604 | RNAV (GPS) RWY 4, ORIG
07/10/03 | TX | HOUSTON | ELLINGTON FIELD | 3/5608 | RNAV (GPS) RWY 17R, ORIG
07/10/03 | TX | AUSTIN | AUSTIN-BERGSTROM INTL | 3/5725 | ILS RWY 17R, AMDT 2
07/11/03 | AR | CARLISLE | CARLISLE MUNI | 3/5803 | GPS RWY 9, AMDT 1
07/11/03 | MO | JOPLIN | JOPLIN REGIONAL | 3/5798 | ILS RWY 13, AMDT 23A
07/15/03 | AR | CLARKSVILLE MUNI | CLARKSVILLE MUNI | 3/5948 | GPS RWY 9, ORIG
07/15/03 | AR | BENTON | SALINE COUNTY/WATTS FIELD | 3/5949 | GPS RWY 17, ORIG
07/15/03 | AR | BENTON | SALINE COUNTY/WATTS FIELD | 3/5950 | GPS RWY 35, ORIG
07/15/03 | NE | CAMBRIDGE | CAMBRIDGE MUNI | 3/5973 | NDB RWY 32, AMDT 4
07/15/03 | TX | LAREDO | LAREDO INTL | 3/5982 | ILS RWY 17R, AMDT 9
07/15/03 | NM | ARTESIA | ARTESIA MUNI | 3/5988 | NDB RWY 30, AMDT 4
07/14/03 | PA | PERKASIE | PENNRIDGE | 3/5888 | RNAV (GPS) RWY 8, ORIG-A
07/14/03 | NY | LAKE PLACID | LAKE PLACID | 3/5791 | RNAV (GPS)-A, ORIG
07/11/03 | CO | HAYDEN | YAMPA VALLEY | 3/5767 | RNAV (GPS) Y RWY 10, ORIG
07/11/03 | CO | HAYDEN | YAMPA VALLEY | 3/5769 | RNAV (GPS) RWY 28, ORIG
07/11/03 | CO | HAYDEN | YAMPA VALLEY | 3/5768 | RNAV (GPS) Z RWY 10, ORIG
*Replaces 3/5078.

[FR Doc. 03-18904 Filed 7-25-03; 8:45 am]

BILLING CODE 4910-13-P